DEPARTMENT OF HEALTH AND HUMAN SERVICES

Centers for Disease Control and Prevention

[30Day-13-13RE]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC 20503 or by fax to (202) 395-5806. Written comments should be received within 30 days of this notice.

Proposed Project

Public Health Systems, Mental Health and Community Recovery Project—New—Office of Public Health Preparedness and Response, Centers for Disease Control and Prevention (CDC).

Background and Brief Description

This project stems from, and aligns with, publication of the Office of Public Health Preparedness and Response's (OPHPR) “National Strategic Plan for Public Health Preparedness and Response” which provides overall direction for Centers for Disease Control and Prevention's (CDC) preparedness and response portfolio, including programmatic direction across OPHPR's four divisions. The focus of this project is to generate findings useful for future preparedness planning and response in order to develop strategies and interventions aimed at mitigating the impact of adverse events. In April 2011, one of the largest tornado outbreaks ever recorded, a “Super Outbreak,” occurred in the southeastern United States, resulting in more than 300 deaths and an estimated $10 billion in damages. This large-scale multistate tragedy offers a unique opportunity to study how communities with similar cultural and geographic features yet different public health and mental health emergency response systems could provide access to care around the same crisis. The outcomes of these efforts can inform the field of what effect these differences had on the recovery patterns of each of these communities. By doing so, we can begin to elucidate best practices for robust community preparedness and recovery with attention to types of services that most effectively promote the natural resilience of survivors. Two primary research questions will guide the proposed study:

1. How did the Alabama and Mississippi State and local public health and mental health (PH/MH) systems prepare for, respond to, and support recovery after the April 2011 tornados?

2. To what extent have these communities recovered and what is the overall health and quality of life of individuals affected by these events?

CDC requests OMB approval to collect information for two years.

To address these questions, CDC, in collaboration with ICF International, will conduct a mixed method evaluation utilizing key informant interviews of public health and mental health agency staff and other leaders from the community and household survey data in each of the four regions in Mississippi and Alabama to assess community recovery. Specifically, the study design includes two main components (qualitative and quantitative) designed to comprehensively examine the PH/MH system response to and community recovery and resilience from disasters.

The total estimated burden for the 98 one-time qualitative interviews for public health/mental health professionals and community leaders is 98 hours (98 respondents × 1 hour/response). Interviews will be conducted during an in-person site-visit to the region to reduce travel and time burdens on the respondents. Respondents unable to participate during the site visit may participate via telephone. In addition, the total estimated burden for the quantitative computer-assisted interviews are based on 1,313 screener respondents and 860 survey respondents in each of the four tornado effected regions; the screener will take approximately 2 minutes to complete and the survey will take approximately 25 minutes to complete.(Study Screener: 4 counties × 1,313 study screeners = 5,252 participants screened; 5,252 participants × 2/60 minutes = 175 hours; Household Survey for General Public: 4 counties × 860 respondents = 3,440 respondents; 3,440 respondents × 25/60 minutes = 1,433 hours).

There are no costs to respondents other than their time.

The total estimated annual burden hours are 1,706.

Estimated Annualized Burden Hours
Type of respondents | Form name | Number of respondents | Number of responses per respondent | Average burden per response (in hrs.)
Mental Health/Public Health Agency Staff | Key Informant Interview Guide_PH/MH Agency Staff & Key Informant Interview Guide_Consent Form | 53 | 1 | 1
Community Organization Leaders | Key Informant Interview Guide_Community Organization Respondents & Key Informant Interview Guide_Consent Form | 45 | 1 | 1
General public from disaster affected communities | Household Survey for General Public and Consent | 3,440 | 1 | 25/60
General public from disaster affected communities | Household Survey for General Public_Study Screener | 5,252 | 1 | 2/60

LeRoy Richardson,
Chief, Information Collection Review Office, Office of Scientific Integrity, Office of the Associate Director for Science, Office of the Director, Centers for Disease Control and Prevention.

[FR Doc. 2013-20643 Filed 8-23-13; 8:45 am]

BILLING CODE 4163-18-P